DEPARTMENT OF LABOR

Agency Information Collection Activities; Submission for OMB Review; Comment Request, Evaluation of the American Apprenticeship Initiative, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, DOL is soliciting comments concerning the collection of data on the Evaluation of the American Apprenticeship Initiative. A copy of the proposed Information Collection Request (ICR) can be obtained by contacting the office listed below in the addressee section of this notice.

DATES: Written comments must be submitted to the office listed in the addressee section below on or before October 26, 2018.

ADDRESSES: You may submit comments by either one of the following methods:

Email: ChiefEvaluationOffice@dol.gov; Mail or Courier: Janet Javar, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Contact Janet Javar by email at ChiefEvaluationOffice@dol.gov.

SUPPLEMENTARY INFORMATION:

I. Background: The American Apprenticeship Initiative (AAI) awarded funds to 46 grantees to support the expansion of quality and innovative apprenticeship training programs. The Department of Labor is sponsoring an evaluation of this initiative that includes the following four components:

1. An implementation study to describe how AAI programs develop, operate and mature.

2. An outcomes study to examine in-program and post-program outcomes of participants in apprenticeships, particularly around employment, earnings, wages, and employment retention, as well as pre-intervention and post-intervention certification and credential attainment.

3. A return on investment (ROI) study to estimate the benefits and costs of apprenticeship to employers.

4. An impact study to assess the efforts of select AAI grantees to sell apprenticeships to employers and to assist employers in registration of apprenticeships.

This Federal Register Notice provides the opportunity to comment on two proposed new information collection activities that will be used in the evaluation:

• Employer survey—a key source of information for the ROI study, the employer survey will be used to generate an estimate of the returns employers can expect by investing in apprenticeship programs. This on-line survey asks about the firm's characteristics, sponsorship, apprenticeship structure, and specific questions about the costs and benefits employers experience by offering apprenticeship.

• Participant survey—a key source of information for the outcomes study, the survey gathers information about the participants' experience in an AAI apprenticeship. The survey includes questions on an apprentice's background prior to apprenticeship, apprenticeship experiences, skills and knowledge gained, and outcomes. The survey will use a bi-modal approach: on-line with telephone follow-up as needed.

A separate information collection activity notice on interview protocols for implementation study site visits, a grantee survey, and a management information system (MIS) for the impact study was published on September 13, 2017 (82 FR 43038). These collection activities will commence once the information collection request is approved.

II. Desired Focus of Comments: DOL is soliciting comments concerning the above data collection for the Evaluation of the American Apprenticeship Initiative. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology—for example, permitting electronic submission of responses.

III. Current Actions: At this time, DOL is requesting clearance for the survey of employers affiliated with AAI grantees and for the survey of participants served through AAI grants.

Estimated Burden Hours
Type of instrument (form/activity) | Number of respondents ᵃ | Number of responses per respondent | Total number of responses | Average burden hour per response (in hours) | Estimated burden hours
Employer Survey | 400 ᵇ | 1 | 400 | 1 | 400
Participant Survey | 667 ᶜ | 1 | 667 | 0.5 | 334
Totals | 1,067 |  | 1,067 |  | 734
ᵃ We are seeking a clearance period of three years.
ᵇ Assumes a sample of 3,000 employers with a 40 percent response rate.
ᶜ Assumes a sample of 2,500 participants with an 80 percent response rate.

Type of Review: New information collection request.

OMB Control Number: 1290-0NEW.

Affected Public: Employers offering registered apprenticeships through affiliation with AAI grantees and participants in AAI apprenticeships.

Dated: August 20, 2018.
Molly Irwin,
Chief Evaluation Officer, U.S. Department of Labor.

[FR Doc. 2018-18478 Filed 8-24-18; 8:45 am]

BILLING CODE 4510-HX-P